DEPARTMENT OF COMMERCE

National Oceanic and Atmospheric Administration

RIN 0648-XC177

South Atlantic Fishery Management Council; Public Meetings

AGENCY: National Marine Fisheries Service (NMFS), National Oceanic and Atmospheric Administration (NOAA), Commerce.

ACTION: Notice of public meetings of the South Atlantic Fishery Management Council.

SUMMARY: The South Atlantic Fishery Management Council will hold meetings of its: Ecosystem-Based Management Committee; Shrimp Committee; Southeast Data, Assessment and Review (SEDAR) Committee; Snapper Grouper Committee; Ad Hoc Data Collection Committee; King and Spanish Mackerel Committee; Advisory Panel Selection Committee (closed session); Golden Crab Committee; Executive Finance Committee; and a meeting of the Full Council. The Council will take action as necessary. The Council will also hold an informal public question and answer session regarding agenda items, and a formal public comment session. See SUPPLEMENTARY INFORMATION for additional details.

DATES: The Council meeting will be held September 10-14, 2012. See SUPPLEMENTARY INFORMATION for specific dates and times.

ADDRESSES: The meetings will be held at the Charleston Marriott Hotel, 170 Lockwood Boulevard, Charleston, SC 29403; telephone: (1-800) 968-3569 or (843) 723-3000; fax: (843) 723-0276.

Council address: South Atlantic Fishery Management Council, 4055 Faber Place Drive, Suite 201, North Charleston, SC 29405.

FOR FURTHER INFORMATION CONTACT: Kim Iverson, Public Information Officer; telephone: (843) 571-4366 or toll free at (866) SAFMC-10; fax: (843) 769-4520; email: kim.iverson@safmc.net.

SUPPLEMENTARY INFORMATION: Copies of documents are available from Kim Iverson, Public Information Officer (see FOR FURTHER INFORMATION CONTACT).

Meeting Dates:

1. Ecosystem-Based Management Committee Meeting: September 10, 2012, 1:30 p.m. until 3 p.m.

The Ecosystem-Based Management Committee will review the status for Comprehensive Ecosystem-Based Amendment 3 (CE-BA 3), review the list of items and develop recommendations for CE-BA 4, and will receive an update on ecosystem activities.

2. Shrimp Committee Meeting: September 10, 2012, 3 p.m. until 4 p.m.

The Shrimp Committee will receive: an overview of public hearing comments for Shrimp Amendment 9, which would expedite the closure process during severe cold events in order to protect overwintering shrimp populations and would revise the Minimum Stock Size Threshold (MSST) proxy for pink shrimp; and a report from the Scientific and Statistical Committee (SSC). The Committee will develop recommendations for the amendment and is scheduled to recommend approval of Amendment 9 for formal review.

3. SEDAR Committee Meeting: September 10, 2012, 4 p.m. until 5:30 p.m. (Note: A portion of the meeting will be CLOSED.)

The SEDAR Committee will receive an activities update as well as a presentation on the SSC Only Reliable Catch Stocks (ORCS) Workshop. The Committee will provide guidance to the SEDAR Steering Committee representatives and will receive an overview of SEDAR 32, pertaining to gray triggerfish and blueline tilefish. The Committee is scheduled to approve the SEDAR schedule and make appointments to SEDAR 32 (closed session).

4. Snapper Grouper Committee Meeting: September 11, 2012, 8:30 a.m. until 5 p.m.

The Snapper Grouper Committee will receive updates on Oculina research activities and the status of catches versus quotas for commercial and recreational species under Annual Catch Limits (ACLs). The Committee will also receive a presentation on “Catch and Discard Characterization for Red Snapper, Warsaw Grouper and Speckled Hind”. The Committee will review the status of amendments currently under formal review, including: The status of the red snapper emergency action request; Regulatory Amendment 12 pertaining to the golden tilefish ACL adjustment; the resubmittal of Action 4 in Amendment 18A addressing the transferability of black sea bass endorsements; Amendment 20A regarding the wreckfish Individual Transferable Quota (ITQ); and Amendment 18B that includes measures to limit participation in the commercial golden tilefish fishery. The Committee will also review an emergency rule request to delay the start of the golden tilefish fishing season. The Committee will discuss the status of the proposed Marine Protected Areas (MPAs) and Habitat Areas of Particular Concern (HAPCs) for speckled hind and warsaw grouper, including an overview of input from the public workshops and an update on SSC discussions. Additionally, the Committee will receive an overview for: Regulatory Amendment 13, regarding adjustments of snapper grouper ACLs based on Marine Recreational Fishing Statistical Survey/Marine Recreational Information Program (MRFSS/MRIP) calibration; Amendment 22, pertaining to the development of the red snapper tag program; and Regulatory Amendment 14, regarding an overview of management history and current regulations for mutton snapper, greater amberjack, gray triggerfish, black sea bass and vermilion snapper. The Committee will discuss the blue runner issue as well as the Council's vision for the future of the snapper grouper fishery. The Committee will provide guidance and recommendations to staff on timing, actions and alternatives.

5. Ad Hoc Data Collection Committee Meeting: September 12, 2012, 8:30 a.m. until 12 noon.

The Ad Hoc Data Collection Committee will receive presentations on results of bycatch monitoring and the NMFS quota monitoring system. The Committee will: Review public hearing comments for the Joint Gulf and South Atlantic Council Generic Dealer Permit; finalize Committee recommendations; and recommend approval of the permit for formal review. The Committee will: Review public hearing comments for commercial vessel, for-hire vessel and discard reporting actions in CE-BA 3; finalize Committee recommendations for CE-BA 3; and recommend approval of these items for formal review.

6. King and Spanish Mackerel Committee Meeting: September 12, 2012, 1:30 p.m. until 5 p.m.

The King and Spanish Mackerel Committee will receive updates on: the status of commercial and recreational catches versus quotas; the Joint Gulf and South Atlantic Mackerel Amendment 19, pertaining to permits and tournament sale requirements; and Amendment 20, regarding boundaries and transit provisions. The Committee will modify Amendments 19 and 20 as appropriate and provide guidance to staff. The Committee will review public input on the South Atlantic Mackerel Framework Amendment and will provide guidance to staff.

Note: There will be an informal public question and answer session with the NMFS Regional Administrator and the Council Chairman on September 12, 2012, beginning at 5:30 p.m.

7. Advisory Panel Selection Committee Meeting: September 13, 2012, 8:30 a.m. until 9:30 a.m. (closed session)

The Advisory Panel Selection Committee will review advisory panel applications and develop recommendations for appointments.

8. Golden Crab Committee Meeting: September 13, 2012, 9:30 a.m. until 11 a.m.

The Golden Crab Committee will receive a briefing on the golden crab permit holders meeting and an overview of Amendment 6, pertaining to establishing a catch share program for the commercial golden crab fishery. The Committee will modify the amendment as appropriate and will recommend the approval of Amendment 6 for formal review.

9. Executive Finance Committee Meeting: September 13, 2012, 11 a.m. until 12 noon.

The Executive Finance Committee will: review the status of Council Year (CY) 2012 budget expenditures; discuss joint South Florida management issues; and discuss other issues as appropriate.

Council Session: September 13, 2012, 1:30 p.m. until 5:30 p.m. and September 14, 2012, 8:30 a.m. until 12:30 p.m.

Council Session: September 13, 2012, 1:30 p.m. until 5:30 p.m.

1:30 p.m. until 2 p.m., the Council will call the meeting to order, adopt the agenda, approve the June 2012 meeting minutes, elect the Council chairman and vice-chairman, and present the Law Enforcement Officer of the Year award.

Note: A formal public comment session will be held on September 13, 2012, beginning at 2 p.m., on: Shrimp Amendment 9; the Joint Gulf and South Atlantic Dealer Permit; CE-BA 3; the emergency rule request to delay the start of the golden tilefish season; and Golden Crab Amendment 6; followed by comment on any other item on the agenda.

3:30 p.m. until 4 p.m., the Council will receive a presentation on the changes in the Exclusive Economic Zone (EEZ) boundary between the United States and the Bahamas.

4 p.m. until 4:30 p.m., the Council will receive a report from the Snapper Grouper Committee, address the Committee recommendation relative to the request for an emergency rule to delay the golden tilefish fishing season, consider other recommendations and take action as appropriate.

4:30 p.m. until 5:00 p.m., the Council will receive a report from the Ad Hoc Data Collection Committee, approve the Joint Gulf and South Atlantic Dealer Permit and CE-BA 3 for formal Secretarial review, consider recommendations and take action as appropriate.

5 p.m. until 5:15 p.m., the Council will receive a report from the King and Spanish Mackerel Committee, consider recommendations and take action as appropriate.

5:15 p.m. until 5:30 p.m., the Council will receive a report from the Ecosystem-Based Management Committee, consider recommendations and take action as appropriate.

Council Session: September 14, 2012, 8:30 a.m. until 12:30 p.m.

8:30 a.m. until 8:45 a.m., the Council will receive a legal briefing on litigation. (closed session)

8:45 a.m. until 9 a.m., the Council will receive a report from the Shrimp Committee, approve Amendment 9 for formal Secretarial review, consider other recommendations and take action as appropriate.

9 a.m. until 9:15 a.m., the Council will receive a report from the SEDAR Committee, consider recommendations and take action as appropriate.

9:15 a.m. until 9:30 a.m., the Council will receive a report from the Golden Crab Committee, approve Amendment 6 for formal Secretarial review, consider other recommendations and take action as appropriate.

9:30 a.m. until 9:45 a.m., the Council will receive a report from the Advisory Panel Selection Committee, consider Committee recommendations for appointments and take action as appropriate.

9:45 a.m. until 10 a.m., the Council will receive a report from the Executive Finance Committee, consider recommendations and take action as appropriate.

10 a.m. until 12:30 p.m., the Council will receive presentations and status reports from the NOAA Southeast Regional Office (SERO) and the NMFS SEFSC, review and develop recommendations on Experimental Fishing Permits as necessary, review agency and liaison reports, and discuss other business, including upcoming meetings.

Documents regarding these issues are available from the Council office (see ADDRESSES).

Although non-emergency issues not contained in this agenda may come before this Council for discussion, those issues may not be the subjects of formal final Council action during these meetings. Council action will be restricted to those issues specifically listed in this notice and any issues arising after publication of this notice that require emergency action under section 305(c) of the Magnuson-Stevens Act, provided the public has been notified of the Council's intent to take final action to address the emergency.

Except for advertised (scheduled) public hearings and public comment, the times and sequence specified on this agenda is subject to change.

Special Accommodations

These meetings are physically accessible to people with disabilities. Requests for sign language interpretation or other auxiliary aids should be directed to the Council office (see ADDRESSES) by September 4, 2012.

Dated: August 20, 2012.
William D. Chappell,
Acting Deputy Director, Office of Sustainable Fisheries, National Marine Fisheries Service.

[FR Doc. 2012-20792 Filed 8-22-12; 8:45 am]

BILLING CODE 3510-22-P